DEPARTMENT OF TRANSPORTATION

Federal Aviation Administration

Eighteenth Meeting of SC-227 Navigation Information on Electronic Maps

AGENCY: Federal Aviation Administration (FAA), U.S. Department of Transportation (DOT).

ACTION: Eighteenth Meeting of the SC-227 Navigation Information on Electronic Maps.

SUMMARY: The FAA is issuing this notice to advise the public of a meeting of Eighteenth Meeting of SC-227 Navigation Information on Electronic Maps.

DATES: The meeting will be held September 20-22, 2016, 9:00 a.m. to 4:30 p.m.

ADDRESSES: The meeting will be held at: 1150 18th Street NW., Suite 910, Washington, DC 20036.

FOR FURTHER INFORMATION CONTACT: Jennifer Iversen at jiversen@rtca.org or (202) 330-0662, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Eighteenth Meeting of the SC-227, Navigation Information on Electronic Maps. The agenda will include the following:

September 20-22, 2016, 9:00 a.m. to 4:30 p.m.

Plenary—Tuesday, September 20, 2016, 09:00-10:00

1. Welcome and Administrative Remarks

2. Introduction

3. Review of Minutes from Meeting 17.

4. Agenda Overview

a. Schedule

b. New Business

c. SC227 Terms of Reference Updates

5. Review and discussion of MOPS issues and change proposals.

Closing Plenary—Thursday, September 22, 2016, 10:45-Noon

1. Working Group 2 Progress Report/Summary

2. Other Business

3. Date of Next Meeting

4. Adjourn

Working Group of a Whole will take place at all other meeting times outside of stated Plenary sessions.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 26, 2016.
Mohannad Dawoud,
Management & Program Analyst, Partnership Contracts Branch, ANG-A17, NextGen, Procurement Services Division, Federal Aviation Administration.

[FR Doc. 2016-20986 Filed 8-30-16; 8:45 am]

BILLING CODE 4910-13-P